DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation and are new, modified, discontinued, or completed since the last publication of this notice on May 9, 2008. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Water and Environmental Resources Office, Bureau of Reclamation, PO Box 25007, Denver, Colorado 80225-0007; telephone 303-445-2888.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

Definitions of Abbreviations Used in This Document

BCP—Boulder Canyon Project

Reclamation—Bureau of Reclamation

CAP—Central Arizona Project

CVP—Central Valley Project

CRSP—Colorado River Storage Project

FR—Federal Register

IDD—Irrigation and Drainage District

ID—Irrigation District

M&I—Municipal and Industrial

NMISC—New Mexico Interstate Stream Commission

O&M—Operation and Maintenance

P-SMBP—Pick-Sloan Missouri Basin Program

PPR—Present Perfected Right

RRA—Reclamation Reform Act of 1982

SOD—Safety of Dams

SRPA—Small Reclamation Projects Act of 1956

USACE—U.S. Army Corps of Engineers

WD—Water District

Pacific Northwest Region: Bureau of Reclamation, 1150 North Curtis Road, Suite 100, Boise, Idaho 83706-1234, telephone 208-378-5344.

Discontinued Contract Action

6. North Unit ID, Deschutes Project, Oregon: Warren Act contract with cost of service charge to allow for use of project facilities to convey nonproject water.

Mid-Pacific Region: Bureau of Reclamation, 2800 Cottage Way, Sacramento, California 95825-1898, telephone 916-978-5250.

New Contract Actions

34. Ivanhoe ID, CVP, California: Proposed partial assignment of 1,200 acre-feet of class 1 and 7,400 acre-feet of class 2 of the district's CVP water supply to Kaweah Delta Conservation District for irrigation purposes.

35. Cawelo WD, CVP, California: Long-term Warren Act contract for conveying up to 10,000 acre-feet of nonproject water (exchanged banked groundwater) via the Friant-Kern Canal for irrigation and M&I purposes.

Modified Contract Action

21. Delta Lands Reclamation District No. 770, CVP, California: Long-term Warren Act contract for conveying up to 300,000 acre-feet of nonproject flood flows via the Friant-Kern Canal for flood control purposes.

Completed Contract Action

31. Contract for exchange of water among the United States, San Luis WD, and Meyers Farms Family Trust. The contract will allow for an exchange with Reclamation of previously banked water for a like amount of project water made available to San Luis WD on behalf of Meyers Farms. Contract executed May 2, 2008.

Lower Colorado Region: Bureau of Reclamation, PO Box 61470 (Nevada Highway and Park Street), Boulder City, Nevada 89006-1470, telephone 702-293-8192.

The Lower Colorado Region has no update to report for this quarter.

Upper Colorado Region: Bureau of Reclamation, 125 South State Street, Room 6107, Salt Lake City, Utah 84138-1102, telephone 801-524-3864.

New Contract Actions

1. (e) Mesa County (Solid Waste), Aspinall Storage Unit, CRSP: The County has requested a 40-year water service contract for 44 acre-feet of M&I water out of Blue Mesa Reservoir, which requires them to present a Plan of Augmentation to the Division 4 Water Court.

1. (f) Mike and Marsha Jackson, Aspinall Storage Unit, CRSP: The Jackson's have requested a 40-year water service contract for 1 acre-foot of M&I out of Blue Mesa Reservoir, which requires them to present a Plan of Augmentation to the Division 4 Water Court.

1. (g) Dick Morfitt, Aspinall Storage Unit, CRSP: Mr. Morfitt has requested a 40-year water service contract for 35 acre-feet of M&I water out of Blue Mesa Reservoir, which requires him to present a Plan of Augmentation to the Division 4 Water Court.

1. (h) Western Gravel, Aspinall Storage Unit, CRSP: Western Gravel has requested a 40-year water service contract for 3 acre-feet of M&I water out of Blue Mesa Reservoir, which requires them to present a Plan of Augmentation to the Division 4 Water Court.

33. Elkhead Reservoir Enlargement: This contract will supersede contract No. 05-WC-40-420. The proposed contract will include the Recovery Programs pro-rata share of the actual construction cost plus fish screen costs. Also identified in this proposed contract is the pro-rata share of the actual construction costs for the other signatory parties. Upon payment by Recovery Program, this proposed contract will ensure permanent water supply for the endangered fish.

Completed Contract Actions

1. (b) Maureen A. Call, Aspinall Storage Unit, CRSP: Ms. Call has requested a 40-year water service contract for 1 acre-foot of M&I water out of Blue Mesa Reservoir, which requires Ms. Call to present a Plan of Augmentation to the Division 4 Water Court. Contract was executed February 15, 2008.

1. (c) Vanessa Rueckert (Hidden Mesa Estates), Aspinall Storage Unit, CRSP: Ms. Rueckert has requested a 40-year water service contract for 1 acre-foot of M&I water out of Blue Mesa Reservoir, which requires Ms. Rueckert to present a Plan of Augmentation to the Division 4 Water Court. Contract was executed February 15, 2008.

1. (d) Thomas Alan Kay (North Fork Reserve), Aspinall Storage Unit, CRSP: Mr. Kay has requested a 40-year water service contract for 11 acre-feet of M&I water out of Blue Mesa Reservoir, which requires them to present a Plan of Augmentation to the Division 4 Water Court. Contract was executed February 12, 2008.

1. (e) Mesa County (Solid Waste), Aspinall Storage Unit, CRSP: The County has requested a 40-year water service contract for 44 acre-feet of M&I water out of the Blue Mesa Reservoir, which requires them to present a Plan of Augmentation to the Division 4 Water Court. Contract was executed February 12, 2008.

24. Weber Basin Water Conservancy District, Weber Basin Project, Utah: Contract providing for the district to repay to the United States 15 percent of the cost of Phase I SOD modifications to the foundation at Arthur V. Watkins Dam. Contract was executed April 7, 2008.

25. Weber Basin Water Conservancy District, Weber Basin Project, Utah: Contract providing for the district to repay to the United States 15 percent of the cost of Phase II SOD modifications to the foundation at Arthur V. Watkins Dam. Contract was executed May 2, 2008.

Great Plains Region: Bureau of Reclamation, PO Box 36900, Federal Building, 316 North 26th Street, Billings, Montana 59101, telephone 406-247-7752.

New Contract Actions

40. LU Sheep Company, Boysen Unit, P-SMBP, Wyoming: Contract renewal of long-term water service contract.

41. Busch Farms, Inc., Boysen Unit, P-SMBP, Wyoming: Contract renewal of long-term water service contract.

42. Gorst Ranch, Boysen Unit, P-SMBP, Wyoming: Contract renewal of long-term water service contract.

Modified Contract Actions

5. Highland-Hanover ID, Hanover-Bluff Unit, P-SMBP, Wyoming: Execute long-term water service contract.

6. Upper Bluff ID, Hanover-Bluff Unit, P-SMBP, Wyoming: Execute long-term water service contract.

37. Big Horn Canal ID, Boysen Unit, P-SMBP, Wyoming: Big Horn Canal ID has requested the renewal of their long-term water service contract.

38. Treeline Springs, LLC., Canyon Ferry Unit, Montana: Request for water service contract for up to 620 acre-feet of water per year for replacement of water for senior water rights.

39. Hanover ID, Boysen Unit, P-SMBP, Wyoming: Hanover ID has requested the renewal of their long-term water service contract.

Dated: June 25, 2008.
Roseann Gonzales,
Director, Policy and Program Services, Denver Office.

[FR Doc. E8-18556 Filed 8-11-08; 8:45 am]

BILLING CODE 4310-MN-P